DEPARTMENT OF HEALTH AND HUMAN SERVICES

National Institutes of Health

Eunice Kennedy Shriver National Institute of Child Health & Human Development; Amended Notice of Meeting

Notice is hereby given of a change in the meeting of the National Advisory Child Health and Human Development Council, January 26, 2026, 12:00 p.m. to January 27, 2026, 05:00 p.m., Eunice Kennedy Shriver National Institute of Child, Health and Human Development National Institutes, 6710 B Rockledge Drive, Bethesda, MD 20817 which was published in the Federal Register on September 24, 2025, 90 FR 45955.

The originally scheduled two-day meeting was changed to a one-day meeting that will be held on January 26, 2026, from 12:00 p.m. to 05:00 p.m. The January 26, 2026, meeting is open to the public and its agenda will cover the open meeting agenda topics from the initial Federal Register Notice. The topics that were originally intended to be covered in the closed session will be discussed in a new meeting scheduled for March 20, 2026. A new Federal Register notice will be provided to the public with the March 20, 2026, meeting details.

Dated: December 15, 2025.
David W. Freeman,
Supervisory Program Analyst, Office of Federal Advisory Committee Policy.

[FR Doc. 2025-23215 Filed 12-17-25; 8:45 am]

BILLING CODE 4140-01-P